FEDERAL MARITIME COMMISSION

[Docket No. 08-07]

Petition of Olympus Growth Fund III, L.P. and Olympus Executive Fund, L.P. for Declaratory Order, Rulemaking or Other Relief; Request for Comments

This is to invite comments on or before March 6, 2009, with regard to the Petition described below.

On December 23, 2008 notice was given that Olympus Growth Fund III, L.P. and Olympus Executive Fund, L.P. (“Petitioners”) had petitioned the Federal Maritime Commission (“Commission”) pursuant to 46 CFR 502.51, 68 and 69, for the Commission to: (1) Issue a declaratory order clarifying that the “practice of re-routing the domestic inland transportation leg of a through intermodal shipment” by non-vessel-operating common carriers or other shippers does not violate the Shipping Act of 1984 (“Shipping Act”); (2) initiate a rulemaking to consider these issues; and/or (3) initiate a docketed proceeding with respect to informal compromise procedures said to be underway between Global Link Logistics, Inc. (“Global Link”) and the Commission's Bureau of Enforcement (“BOE”), and grant Petitioners leave to intervene in the Commission's investigation thereof.

The Commission's Notice of Filing of Petition requested that Global Link Logistics Inc. and the Bureau of Enforcement submit views or arguments in reply to the Petition no later than January 9, 2009 (74 FR 288, Jan. 5, 2009). In order for the Commission to make a thorough evaluation of the Petition, other interested persons are hereby invited to submit views or arguments in reply to the Petition no later than March 13, 2009. The Commission is particularly interested in comments relating to the rulemaking aspects of the Petition.

Comments shall consist of an original and fifteen (15) copies, be directed to the Secretary, Federal Maritime Commission, 800 North Capitol Street, NW., Washington, DC 20573-0001, and be served on Petitioners' counsel, Lewis R. Clayton, of Paul, Weiss, Rifkind, Wharton & Garrison LLP, 1285 Avenue of the Americas, New York, NY 10019-6064; and Warren L. Dean, Jr., of Thompson Coburn LLP, 1909 K Street, NW., Suite 600, Washington, DC 20006. Comments shall also be submitted in electronic form (Microsoft Word 2003) by e-mail to secretary@fmc.gov. To review the Petition, the Notice of Filing of Petition, or any related documents, visit the Commission's Web site at http://www.fmc.gov/reading/activity_logs.asp?DOCKET_ID=634. Comments filed in response to this Petition will be posted on the Commission's Web site at the location shown above.

Karen V. Gregory,
Secretary.

[FR Doc. E9-3965 Filed 2-24-09; 8:45 am]

BILLING CODE 6730-01-P